DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than May 28, 2002.

Interested persons are invited to submit written comments regarding the subject matter of the investigations to the Director, Division of Trade Adjustment Assistance, at the address shown below, not later than May 28, 2002.

The petitions filed in this case are available for inspection at the office of the Director, Division of Trade Adjustment Assistance, Employment and Training Administration, U.S. Department of Labor, Room C-5311, 200 Constitution Avenue, NW., Washington, DC 20210.

Signed at Washington, DC, this 11th day of March, 2002.
Edward A. Tomchick,
Director, Division of Trade Adjustment Assistance.

Appendix
[Petitions Instituted on 03/11/2002]
TA-W | Subject firm (petitioners) | Location | Date of petition | Product(s)
40,952 | United Plastic Group (Wkrs) | Pharr, TX | 01/31/2002 | Plastic Injection Molded Parts.
40,953 | R.R. Donnelley and Sons (Wkrs) | Lynchburg, VA | 01/16/2002 | Pages for Catalogs.
40,954 | Coldwell Moser Leather (Co.) | New Albany, IN | 01/17/2002 | Tanned Leather.
40,955 | California Joy (Co.) | Glendale, CA | 01/24/2002 | Swimwear.
40,956 | Bead Industries (Co.) | Bridgeport, CT | 02/02/2002 | Metal Bead Chain.
40,957 | Magnolia Garment (Wkrs) | Tylertown, MS | 01/21/2002 | Children's Sleepwear.
40,958 | Skyjack Manufacturing (Wkrs) | Wathena, KS | 10/26/2001 | Aerial Scissor Lifts.
40,959 | Jester Apparel (Wkrs) | Brooklyn, NY | 12/21/2001 | Sweaters.
40,960 | Alfa Laval, Inc. (Wkrs) | Kenosha, WI | 10/18/2001 | Fittings.
40,961 | Foster Wrecking Yard (Co.) | Stamford, TX | 10/22/2001 | Scrap Steel.
40,962 | Western Power Products (Co.) | Hood River, OR | 01/09/2002 | Fiberglass Enclosures.
40,963 | Credence Systems (Wkrs) | Hillsboro, OR | 11/08/2001 | Circuit Test Equipment.
40,964 | Ultrafem, Inc. (Co.) | Missoula, MT | 01/06/2002 | Ladies' Sanitary Products.
40,965 | L.E. Mason Co. (Co.) | Boston, MA | 02/05/2002 | Weatherproof Enclosures.
40,966 | Dewitt Footwear (Co.) | Dewitt, AR | 02/08/2002 | Men's Casual Shoes.
40,967 | Tip Top Tees (Wkrs) | Lanes, SC | 12/28/2001 | Tee Shirts.
40,968 | Toshiba Ceramics American (Wkrs) | Hillsboro, OR | 01/03/2002 | Quartz Crucibles.
40,969 | Paramount Headwear (Co.) | Bourbon, MO | 12/26/2001 | Apparel.
40,970 | Pleasant Hill (Wkrs) | Adair, OK | 07/26/2001 | Jackets and Shirts.
40,971 | M.J. Soffe Co. (Co.) | Bladenboro, NC | 01/30/2002 | Fleece Garments.
40,972 | Kurwood, Inc. (Co.) | Los Angeles, CA | 01/28/2002 | Furniture.
40,973 | Hawthorn Missouri (Wkrs) | Hermann, MO | 01/31/2002 | Canvas Tarps.
40,974 | XESystems (Co.) | East Rochester, NY | 01/30/2002 | Marketing & Servicing Document Solutions.
40,975 | Converter Concepts (Wkrs) | Pardeeville, WI | 01/24/2002 | Switching Power Supplies.
40,976 | Abitibi Consolidated (IBEW) | Lufkin, TX | 01/22/2002 | Newsprint and Specialty Paper.
40,977 | LaLa Imports (Co.) | El Paso, TX | 01/04/2002 | Paint Natural Wicker Baskets.
40,978 | Vision Metals, Inc. (USWA) | South Lyon, MI | 01/21/2002 | Carbon Seamless Tubint.
40,979 | COE Industries Electric (Wkrs) | Fontana, CA | 01/11/2002 | Install & Maintenance of Electric Equip.
40,980 | Dyna-Craft Industries (Wkrs) | Murrysville, PA | 01/20/2002 | Stamped Frames.
40,981 | Gates Rubber Co. (USWA) | Galesburg, IL | 01/11/2002 | Rubber Hose, Couplings for Hose.
40,982 | Volk Packaging Corp. (Co.) | Biddleford, ME | 01/31/2002 | Corrugated Box Products.
40,983 | Symbol Technologies (Wkrs) | Houston, TX | 01/03/2002 | Laser Bar Code Scanners.
40,984 | Timesavers (IBT) | Crystal, MN | 02/05/2002 | Speedbelt Sanding Machines.
40,985 | B. Link Florida (Wkrs) | Deerfield Beach, FL | 01/09/2002 | Precision Metal Stampings.
40,986 | FDB, Inc. (Co.) | Lincolnton, GA | 01/30/2002 | Men's and Ladies' Jackets.
40,987 | Globe Metallurgical (USWA) | Niagara Falls, NY | 01/11/2002 | Ferrosilicon Alloys.
40,988 | Screen Creations (Wkrs) | O'Fallon, MO | 01/08/2002 | Screen Print Textile Materials.
40,989 | California Cedar Products (CO.) | Stockton, CA | 01/18/2002 | Pencil Slats.
40,990 | Alcon Summit Technology (Co.) | Waltham, MA | 01/30/2002 | Laser Disc.
40,991 | Telex Communications (IUE) | Buchanan, MI | 01/18/2002 | Audio Systems.
40,992 | CHF Industries (Wkrs) | Loris, SC | 01/29/2002 | Bedding and Shower Curtains.
40,993 | L and G Manufacturing (UNITE) | Archbald, PA | 01/16/2002 | Men's Suit and Dress Pants.
40,994 | Southwire Machinery (Co.) | Carrollton, GA | 01/31/2002 | Locomotive Fuel Tanks.
40,995 | Bosch Rexroth Industrial (IAMAW) | Sturtevant, WI | 01/14/2002 | Hydraulic Pumps Valves.
40,996 | Kosa (Wkrs) | Spartanburg, SC | 01/28/2002 | Polyester Fibers.
40,997 | Kraft Foods (Co.) | Holland, MI | 01/18/2002 | Hard Candy and Mints.
40,998 | Kellwood Company (Wkrs) | Summit, MS | 01/07/2002 | Swimwear, and Activewear.
40,999 | Cleere Drilling Co. (Wkrs) | San Angelo, TX | 01/03/2002 | Gas Well Drilling.
41,000 | Advanced Services (Wkrs) | Memphis, TN | 01/08/2002 | Problem Call Center—Medical Equipment.
41,001 | Oxford Automotive (Co.) | Oscoda, MI | 01/10/2002 | Automotive Metal Stampings.
41,002 | Flextronics Enclosures (Co.) | Kingston, PA | 01/11/2000 | Electronic Enclosures.
41,003 | Drexel Heritage Furnish (Co.) | Drexel, NC | 01/18/2002 | Residential Furniture.
41,004 | Glen Raven (Wkrs) | Burnsville, NC | 01/11/2002 | Textiles.
41,005 | F.L. and J.C. Codman (Wkrs) | Rockland, MA | 01/31/2002 | Buffing Wheels.
41,006 | Schlumberger Wireline (Wkrs) | Williston, ND | 01/28/2002 | Wireline Logs on Oil Wells.
41,007 | Emerson Appliance Motors (Co.) | Oxford, MS | 01/08/2002 | Appliance Motors.
41,008 | Mars Footwear (Wkrs) | Elizabethtown, PA | 01/20/2002 | Plastic Washable Slippers.
41,009 | Washington Frontier Juice (Co.) | Prosser, WA | 01/31/2002 | Juice Concentrates.
41,010 | Dupont Beaumont Works (Co.) | Beaumont, TX | 01/15/2002 | Industrial Ammonia.
41,011 | Imaginknit, Inc. (Co.) | Brooklyn, NY | 01/16/2002 | Knit Fabrics.
41,012 | Sensormatic Electronics (Wkrs) | Boca Raton, FL | 01/25/2002 | Security Tags, Cameras.
41,013 | Chelsea Coat (Wkrs) | Lynbrook, NY | 02/15/2002 | Coats, Suits, Ladies'.
41,014 | Exabyte Corporation (Co.) | Boulder, CO | 02/22/2002 | Computer Tape Drives.
41,015 | Blairsville Factory (Co.) | Blairsville, GA | 02/14/2002 | Raw Materials.
41,016 | Schott Corporation (Co.) | Minneota, MN | 02/14/2002 | Transformers—Telecommunications
41,017 | Mason Shoe Manufacturing (UFCW) | Chippewa Falls, WI | 02/17/2002 | Footwear.
41,018 | Lucent Technologies (Wkrs) | Eugene, OR | 02/15/2002 | Switches—Install, Upgrades, Maintain.
41,019 | Sims Manufacturing Co. (Co.) | Rutland, MA | 02/19/2002 | Tractor Cabs.
41,020 | Phelps Dodge Hidaigo (Co.) | Playas, NM | 02/13/2002 | Copper Smelting.
41,021 | Kryptonite Corporation (Co.) | Canton, MA | 02/20/2002 | Bicycle and Motorcycle Locks.
41,022 | DT Magnetics, Inc. (Wkrs) | Knightdale, NC | 02/18/2002 | Transformers.
41,023 | Jabil Circuit (Wkrs) | Meridian, ID | 01/30/2002 | Circuit Boards.
41,024 | Whisper Jet (Wkrs) | Sanford, FL | 01/25/2002 | Helicopter Services.
41,025 | Bombardier Transportation (Wkrs) | Pittsburgh, PA | 02/05/2002 | Transit Vehicles.
41,026 | PCS Phosphate (Co.) | Aurora, NC | 01/24/2002 | Diamonimum Phosphate, Phosphoric Acid.
41,027 | Centurion Wireless (Wkrs) | Westminster, CO | 01/15/2002 | Cellular Handsets, Two-Way Radios.
41,028 | Anne Klein for Kaspar ASL (Wkrs) | New York, NY | 01/31/2002 | Dresses, Suits and Coats.
41,029 | Precision Rebuilding (Wkrs) | Reading, PA | 01/14/2002 | Machine Rebuilding.
41,030 | LTV Steel Corp (USWA) | Lorain, OH | 01/10/2002 | Cold Rolled Sheet Steel.
41,031 | Great American Knitting (Co.) | Bally, PA | 01/16/2002 | Knit Socks.
41,032 | Bard Manufacturing (Wkrs) | Bryan, OH | 01/20/2002 | Heating and Air Conditioning Coils.
41,033 | Accuride (Wkrs) | Columbia, TN | 01/17/2002 | Steel Wheel—Ford Motor.
41,034 | American Mold & Engineer (Wkrs) | Fridley, MN | 01/18/2002 | Injection Molds.
41,035 | Imerys Pigments (Wkrs) | Dry Branch, GA | 11/27/2002 | Pigments.

[FR Doc. 02-12383 Filed 5-16-02; 8:45 am]

BILLING CODE 4510-30-M